SECURITIES AND EXCHANGE COMMISSION

In the Matter of: Natural Blue Resources, Inc., File No. 500-1; Order of Suspension of Trading

July 16, 2014.

It appears to the Securities and Exchange Commission that there is a lack of current and accurate information concerning the securities of Natural Blue Resources, Inc. because it has not filed any periodic reports since the period ended September 30, 2010.

The Commission is of the opinion that the public interest and the protection of investors require a suspension of trading in the securities of the above-listed company.

Therefore, it is ordered, pursuant to Section 12(k) of the Securities Exchange Act of 1934, that trading in the securities of the above-listed company is suspended for the period from 9:30 a.m. EDT, on July 16, 2014, through 11:59 p.m. EDT, on July 29, 2014.

By the Commission.
Jill M. Peterson,
Assistant Secretary.

[FR Doc. 2014-17036 Filed 7-16-14; 4:15 pm]

BILLING CODE 8011-01-P